DEPARTMENT OF THE INTERIOR

Bureau of Land Management

[LLNV9120000.L18200000.XX0000.LXSS006F0000.223.241A. MO:4500163075]

Notice of Public Meeting: Mojave-Southern Great Basin Resource Advisory Council

AGENCY: Bureau of Land Management, Interior.

ACTION: Notice of public meeting.

SUMMARY: In accordance with the Federal Land Policy and Management Act and the Federal Advisory Committee Act of 1972, the U.S. Department of the Interior's Bureau of Land Management (BLM) Mojave-Southern Great Basin Resource Advisory Council (RAC) will meet as indicated below.

DATES: The Mojave-Southern Great Basin RAC will hold an in-person meeting with a virtual participation option on Tuesday, August 9, 2022. The meeting will be held from 1:00 to 4:30 p.m. and may end earlier or later depending on the needs of group members.

ADDRESSES: The meeting will be held at the BLM Southern Nevada District Office, 4701 North Torrey Pines, Las Vegas, NV. Individuals that prefer to participate virtually must register by visiting the RAC's web page no later than 1 week before the meeting at https://www.blm.gov/get-involved/resource-advisory-council/near-me/nevada.

Written comments can be mailed to: BLM Southern Nevada District Office, Attn: RAC Coordinator; 4701 North Torrey Pines, Las Vegas, Nevada 89130. Comments can also be submitted by email to k1cannon@blm.gov with the subject line: BLM Mojave-Southern Great Basin RAC.

FOR FURTHER INFORMATION CONTACT: Kirsten Cannon, RAC Coordinator, by telephone at (702) 515-5057, or by email at k1cannon@blm.gov.

SUPPLEMENTARY INFORMATION: The 15-member BLM Mojave-Southern Great Basin RAC serves in an advisory capacity concerning issues relating to land use planning and the management of the public land resources located within the BLM's Battle Mountain, Ely, and Southern Nevada Districts. Meetings are open to the public in their entirety and a public comment period will be held near the end of the meeting.

Agenda items include District Manager reports, a discussion on renewable energy applications and prioritization, a review of roles and responsibilities for new members and election of a RAC Chair, and a presentation on the Red Rock Canyon National Conservation Area (NCA) Business Plan and associated amenity recreation fee proposal for the Red Rock Canyon NCA for recommendation to the BLM. The final meeting agenda will be available two weeks in advance of the meeting on the RAC's web page at https://www.blm.gov/get-involved/resource-advisory-council/near-me/nevada.

Please make requests in advance for sign language interpreter services, assistive listening devices, or other reasonable accommodations. We ask that you contact the person listed in the (see FOR FURTHER INFORMATION CONTACT) section of this notice at least seven (7) business days prior to the meeting to give the Department of the Interior sufficient time to process your request. All reasonable accommodation requests are managed on a case-by-case basis.

Individuals in the United States who are deaf, blind, hard of hearing, or have a speech disability may dial 711 (TTY, TDD, or TeleBraille) to access telecommunications relay services. Individuals outside the United States should use the relay services offered within their country to make international calls to the point-of-contact in the United States.

Interested persons may make oral presentations to the RAC during the meeting or file written statements. Such requests should be made to RAC Coordinator Kirsten Cannon prior to the public comment period. Depending on the number of people who wish to speak, the time for individual comments may be limited. Individuals who need further information about the meetings, or special assistance such as sign language interpretation or other reasonable accommodations, may contact Kirsten Cannon (see FOR FURTHER INFORMATION CONTACT).

Before including your address, phone number, email address, or other personal identifying information in your comments, please be aware that your entire comment, including your personal identifying information, may be made publicly available at any time. While you can ask us in your comment to withhold your personal identifying information from public review, we cannot guarantee that we will be able to do so.

(Authority: 43 CFR 1784.4-2)

Angelita S. Bulletts,
District Manager.

[FR Doc. 2022-14313 Filed 7-5-22; 8:45 am]

BILLING CODE 4310-HC-P